DEPARTMENT OF ENERGY

Federal Energy Regulatory Commission

[Docket No. RP04-119-002]

Dominion Transmission, Inc.; Notice of Compliance Filing

April 7, 2004.

Take notice that on March 31, 2004, Dominion Transmission, Inc. (DTI) tendered for filing as part of its FERC Gas Tariff, Third Revised Volume No. 1, Second Substitute Original Sheet No. 1504, to be effective January 22, 2004.

DTI states that the purpose of this filing is to comply with the Commission's Letter Order dated March 25, 2003, which required DTI to report its operational sales of gas on June 30 for the preceding April 1 through March 31 period.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-823 Filed 4-13-04; 8:45 am]

BILLING CODE 6717-01-P